DEPARTMENT OF TRANSPORTATION

Federal Aviation Administration

14 CFR Part 39

[Docket No. FAA-2008-0042; Directorate Identifier 2007-SW-26-AD; Amendment 39-15614; AD 2008-15-02]

RIN 2120-AA64

Airworthiness Directives; Eurocopter Deutschland GMBH Model MBB-BK 117C-2 Helicopters

AGENCY: Federal Aviation Administration (FAA), Department of Transportation (DOT).

ACTION: Final rule.

SUMMARY: We are adopting a new airworthiness directive (AD) for Eurocopter Deutschland GMBH (Eurocopter) Model MBB-BK 117C-2 helicopters. This AD results from mandatory continuing airworthiness information (MCAI) originated by an aviation authority of another country to identify and correct an unsafe condition on an aviation product. The European Aviation Safety Agency for the Republic of Germany, with which we have a bilateral agreement, states in the MCAI:

During inadvertent operation of the fire extinguishing system, in one case it occurred that one of the two injection tubes became disconnected. This condition, if not corrected, could affect the ability of the fire extinguishing system to perform its intended function in the case of activation.

The inability of the fire extinguishing system to suppress an engine fire creates an unsafe condition. We are issuing this AD to correct the unsafe condition by further securing the injection tubes with improved clamps, allowing suppression of a contained engine fire, and subsequent loss of the helicopter.

DATES: This AD becomes effective on September 3, 2008.

The Director of the Federal Register approved the incorporation by reference of certain publications listed in this AD as of September 3, 2008.

ADDRESSES: You may examine the AD docket on the Internet at http://www.regulations.gov or in Room W12-140 on the ground floor of the West Building, 1200 New Jersey Avenue SE., Washington, DC 20590.

You can get the service information identified in this AD from American Eurocopter Corporation, 2701 Forum Drive, Grand Prairie, Texas 75053-4005, telephone (972) 641-3460, fax (972) 641-3527.

FOR FURTHER INFORMATION CONTACT: John Strasburger, Aviation Safety Engineer, FAA, Rotorcraft Directorate, Regulations and Guidance Group, Fort Worth, Texas 76193-0111, telephone (817) 222-5167, fax (817) 222-5961.

SUPPLEMENTARY INFORMATION:

Discussion

We issued a notice of proposed rulemaking (NPRM) to amend 14 CFR part 39 to include an AD that would apply to the specified products. That NPRM was published in the Federal Register on January 23, 2008 (73 FR 3885). That NPRM proposed to correct an unsafe condition for the specified products. The MCAI states:

During inadvertent operation of the fire extinguishing system, in one case it occurred that one of the two injection tubes became disconnected. This condition, if not corrected, could affect the ability of the fire extinguishing system to perform its intended function in the case of activation.

The inability of the fire extinguishing system to suppress an engine fire creates an unsafe condition. The proposed actions are intended to address this unsafe condition by further securing the injection tubes with improved clamps, allowing suppression of a contained engine fire, and preventing an uncontained engine fire and subsequent loss of the helicopter.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. However, we did change “flight hours” referred to in the MCAI to “hours time-in-service” in our AD. In making this change, we do not intend to differ substantively from the information provided in the MCAI. This difference is highlighted in the “Differences Between the FAA AD and the MCAI” section in this AD.

Costs of Compliance

We estimate that this AD will affect 26 helicopters of U.S. registry. We also estimate that it will take about 3.5 work-hours per helicopter to replace the clamps on the injection tubes. The average labor rate is $80 per work-hour. Required parts will cost about $20 per helicopter. Based on these figures, we estimate the cost of this AD to U.S. operators to be $7,800 or $300 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

Examining the AD Docket

You may examine the AD docket on the Internet at http://www.regulations.gov or in person at the Docket Operations office between 9 a.m. and 5 p.m., Monday through Friday, except Federal holidays. The AD docket contains the NPRM, the economic evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-15-02 Eurocopter Deutschland: Amendment 39-15614. Docket No. FAA-2008-0042; Directorate Identifier 2007-SW-26-AD.

Effective Date

(a) This airworthiness directive (AD) becomes effective on September 3, 2008.

Other Affected ADs

(b) None.

Applicability

(c) This AD applies to Model MBB-BK 117C-2 helicopters, Serial Number (S/N) 9004 through S/N 9104, and S/N 9106, 9107, and 9111, with a fire extinguishing system B26K1002-801, B262K1003-801, or B262K1004-801, installed, certificated in any category.

Reason

(d) The mandatory continuing airworthiness information (MCAI) states:

During inadvertent operation of the fire extinguishing system, in one case it occurred that one of the two injection tubes became disconnected. This condition, if not corrected, could affect the ability of the fire extinguishing system to perform its intended function in the case of activation.

The inability of the fire extinguishing system to suppress an engine fire creates an unsafe condition. The proposed actions are intended to address this unsafe condition by further securing the injection tubes with improved clamps, allowing suppression of a contained engine fire, and preventing an uncontained engine fire and subsequent loss of the helicopter.

Actions and Compliance

(e) At the next 100 hours time-in-service inspection, unless already done, replace the current injection tube clamps by installing GBS clamps, part number GBSM24/18W4SK, by following the Accomplishment Instructions, paragraph A., and Figure 1 of Eurocopter Alert Service Bulletin MBB BK117 C-2-26A-001, dated January 22, 2007.

Differences Between the FAA AD and the MCAI

(f) The FAA refers to the compliance time by hours time-in-service rather than flight hours as referred to in the MCAI.

Subject

(g) Air Transport Association of America (ATA) Code JASC 262 Extinguishing System.

Other FAA AD Provisions

(h) The following provisions also apply to this AD:

(1) Alternative Methods of Compliance (AMOCs): The Manager, Safety Management Group, Rotorcraft Directorate, FAA, has the authority to approve AMOCs for this AD, if requested, using the procedures found in 14 CFR 39.19. Send information to ATTN: John Strasburger, Aviation Safety Engineer, Fort Worth, Texas 76193-0111, telephone (817) 222-5167, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(i) MCAI Airworthiness Directive No. 2007-0121, dated May 3, 2007, contains related information.

Material Incorporated by Reference

(j) The Director of the Federal Register approved the incorporation by reference of Eurocopter Alert Service Bulletin MBB BK117 C-2-26A-001, dated January 22, 2007 under 5 U.S.C. 552(a) and 1 CFR part 51.

(k) For the service information identified in this AD, contact American Eurocopter Corporation, 2701 Forum Drive, Grand Prairie, Texas 75053-4005, telephone (972) 641-3460, fax (972) 641-3527.

(l) You may review copies of the service information at the FAA, Office of the Regional Counsel, Southwest Region, 2601 Meacham Blvd., Room 663, Fort Worth, Texas, or at the National Archives and Records Administration (NARA). For information on the availability of this material at NARA, call (202) 741-6030, or go to: http://www.archives.gov/federal-register/cfr/ibr-locations.html.

Issued in Fort Worth, Texas, on May 5, 2008.
David A. Downey,
Manager, Rotorcraft Directorate, Aircraft Certification Service.

[FR Doc. E8-17265 Filed 7-29-08; 8:45 am]

BILLING CODE 4910-13-P